NATIONAL AERONAUTICS AND SPACE ADMINISTRATION

[Notice 00-043]

NASA Advisory Council, Space Flight Advisory Committee (SFAC); Meeting

AGENCY: National Aeronautics and Space Administration.

ACTION: Notice of meeting.

SUMMARY: In accordance with the Federal Advisory Committee Act, Pub. L. 92-463, as amended, the National Aeronautics and Space Administration announces a meeting of the NASA Advisory Council, Space Flight Advisory Committee.

DATES: Monday, May 15, 2000 from 8:00 a.m. until 5:30 p.m.; on Tuesday, May 16, 2000 from 2:30 p.m. until 4:30 p.m.; and on Wednesday, May 17, 2000 from 8:00 a.m. until 2:00 p.m.

ADDRESSES: National Aeronautics and Space Administration, 300 E Street, SW., Room MIC 5, Washington, DC 20546.

FOR FURTHER INFORMATION CONTACT: Mrs. Stacey Edgington, Code ML, National Aeronautics and Space Administration, Washington, DC 20546, 202/358-4519.

SUPPLEMENTARY INFORMATION: The meeting will be open to the public up to seating capacity of the room. The agenda for the meeting is as follows: • Overview, status and metrics for Office of Space Flight programs. • Shuttle upgrades review.

It is imperative that the meeting be held on this date to accommodate the scheduling priorities of the key participants. Visitors will be requested to sign a visitor's register.

Dated: April 24, 2000.
Matthew Crouch,
Advisory Committee Management Officer, National Aeronautics and Space Administration.

[FR Doc. 00-10844 Filed 5-1-00; 8:45 am]

BILLING CODE 7510-01-P